ENVIRONMENTAL PROTECTION AGENCY

[9980-35-Region 6]

Notice of Proposed Administrative Settlement Agreement and Order on Consent for De Minimis Share of Reimbursement for Removal Action for the Ector Drum Site, Odessa, Texas

AGENCY: Environmental Protection Agency (EPA).

ACTION: Notice of proposed settlement; request for public comment.

SUMMARY: In accordance with the Comprehensive Environmental Response, Compensation and Liability Act of 1980, as amended (“CERCLA”), notice is hereby given that the Environmental Protection Agency (“EPA”), has entered into a proposed settlement, embodied in an Administrative Settlement Agreement and Order on Consent for Removal Action (“Settlement Agreement”), with Nexeo Solutions, LLC and Ashland, LLC. Under the Settlement Agreement, Nexeo Solutions, LLC on behalf of Nexeo Solutions, LLC and on behalf of Ashland, LLC will pay EPA $31,111.71. Nexeo Solutions, LLC is paying a de minimis share of the costs incurred for a removal action and cleanup involving the removal of waste drums, containers, totes, etc. and associated chemicals and contaminated soil from an abandoned drum recycling facility located in Odessa, Texas. Total costs of the removal action was approximately $3,345,345.11.

For thirty (30) days beginning the date of publication of this notice, the Agency will receive written comments relating to this notice and will receive written comments relating to the settlement. The Agency will consider all comments received and may modify or withdraw its consent to the settlement if comments received disclose facts or considerations which indicate that the settlement is inappropriate, improper or inadequate. The Agency's response to any comments received will be available for public inspection at 1445 Ross Avenue, Dallas, Texas 75202-2733.

DATES: Comments must be submitted on or before August 9, 2018.

ADDRESSES: The Settlement Agreement is available for public inspection at 1445 Ross Avenue, Dallas, Texas 75202-2733 or by calling 214-665-6529. Comments should reference the Ector Drum Superfund Site, d/b/a Lone Star Drum Superfund Site (“Site”), located in the city of Odessa, Ector County, Texas and be addressed to David Eppler, Enforcement Officer, Superfund Division (6SF-TE), U.S. Environmental Protection Agency, 1445 Ross Avenue, Dallas, Texas 75202-2733; or email: eppler.david@epa.gov; and should reference EPA CERCLA Docket Number 06-01-17. EPA's response to any comments received will be available for public inspection at the same address.

FOR FURTHER INFORMATION CONTACT: James E. Costello, Practice Group Leader, 1445 Ross Avenue, Dallas, Texas 75202-2733; or call (214) 665-8045.

Dated: June 19, 2018.
David Gray,
Deputy Regional Administrator (6RA).

[FR Doc. 2018-14742 Filed 7-9-18; 8:45 am]

BILLING CODE 6560-50-P